DEPARTMENT OF HOMELAND SECURITY

Federal Emergency Management Agency

44 CFR Part 65

[Docket ID FEMA-2011-0002]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below of the modified BFEs for each community listed. These modified BFEs have been published in newspapers of local circulation and ninety (90) days have elapsed since that publication. The Deputy Federal Insurance and Mitigation Administrator has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in those buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
California: Ventura (FEMA Docket No.: B-1177) | Unincorporated areas of Ventura County (10-09-3055P) | December 24, 2010; December 31, 2010;The Ventura County Star | The Honorable Kathy Long, Chair, Ventura County Board of Supervisors, 800 South Victoria Avenue, Ventura, CA 93009 | May 2, 2011 | 060413
Colorado:
Douglas (FEMA Docket No.: B-1186) | Town of Parker (10-08-0769P) | December 23, 2010; December 30, 2010; The Douglas County News-Press | The Honorable David Casiano, Mayor, Town of Parker, 20120 East Main Street, Parker, CO 80138 | April 29, 2011 | 080310
Douglas (FEMA Docket No.: B-1186) | Unincorporated areas of Douglas County (10-08-0769P) | December 23, 2010; December 30, 2010; The Douglas County News-Press | The Honorable Steven A. Boand, Chairman, Douglas County Board of Commissioners, 100 3rd Street, Castle Rock, CO 80104 | April 29, 2011 | 080049
Florida:
Monroe (FEMA Docket No.: B-1191) | City of Key West (11-04-2484X) | February 9, 2011; February 16 2011; The Key West Citizen | The Honorable Craig Cates, Mayor, City of Key West, 525 Angela Street, Key West, FL 33040 | January 31, 2011 | 120168
Monroe (FEMA Docket No.: B-1191) | Unincorporated areas of Monroe County (11-04-2484X) | February 9, 2011; February 16 2011; The Key West Citizen | The Honorable Heather Carruthers, Mayor, Monroe County, 1100 Simonton Street, Key West, FL 33040 | January 31, 2011 | 125129
Georgia: Douglas (FEMA Docket No.: B-1177) | Unincorporated areas of Douglas County (10-04-4871P) | December 24, 2010; December 31, 2010; The Douglas County Sentinel | Mr. Tom Worthan, Chairman, Douglas County Board of Commissioners, 8700 Hospital Drive, Douglasville, GA 30134 | May 2, 2011 | 130306
Hawaii: Hawaii (FEMA Docket No.: B-1191) | Unincorporated areas of Hawaii County (10-09-3793P) | January 3, 2011; January 10, 2011; The Hawaii Tribune-Herald | The Honorable William P. Kenoi, Mayor, Hawaii County, 25 Aupuni Street, Hilo, HI 96720 | May 10, 2011 | 155166
North Carolina:
Alamance (FEMA Docket No.: B-1186) | Unincorporated areas of Alamance County (10-04-2172P) | December 16, 2010; December 23, 2010; The Times-News | Mr. Craig F. Honeycutt, Alamance County Manager, 124 West Elm Street, Graham, NC 27253 | April 22, 2011 | 370001
Macon (FEMA Docket No.: B-1177) | Town of Franklin (10-04-8305P) | December 15, 2010; December 22, 2010; The Franklin Press | The Honorable Joe Collins Mayor, Town of Franklin, P.O. Box 1479, Franklin, NC 28734 | December 8, 2010 | 375350
Wake (FEMA Docket No.: B-1186) | City of Raleigh (10-04-1146P) | January 6, 2011; January 13, 2011; The News & Observer | The Honorable Charles Meeker Mayor, City of Raleigh, P.O. Box 590, Raleigh, NC 27602 | May 13, 2011 | 370243
Tennessee: Sumner (FEMA Docket No.: B-1186) | City of Gallatin (10-04-4673P) | January 19, 2011; January 26, 2011; The Gallatin Newspaper | The Honorable Jo Ann Graves Mayor, City of Gallatin, 132 West Main Street, Gallatin, TN 37066 | May 26, 2011 | 470185
Utah: Washington (FEMA Docket No.: B-1191) | City of St. George (11-08-0105P) | February 11, 2011; Feburary 18, 2011; The Spectrum | The Honorable Daniel D. McArthur, Mayor, City of St. George, 175 East 200 North, St. George, UT 84770 | February 4, 2011 | 490177

(Catalog of Federal Domestic Assistance No. 97.022, “Flood Insurance.”)

Dated: June 30, 2011.
Sandra K. Knight,
Deputy Federal Insurance and Mitigation Administrator, Mitigation, Department of Homeland Security, Federal Emergency Management Agency.

[FR Doc. 2011-18349 Filed 7-20-11; 8:45 am]

BILLING CODE 9110-12-P